DEPARTMENT OF THE INTERIOR

Fish and Wildlife Service

Notice of Availability of a Final Environmental Impact Statement/Environmental Impact Report on the Bair Island Restoration and Management Plan, Don Edwards San Francisco Bay National Wildlife Refuge and the Bair Island State Ecological Reserve, San Mateo County, CA

AGENCY: Fish and Wildlife Service, Interior.

ACTION: Notice of Availability.

SUMMARY: This notice advises the public of the availability of the Final Environmental Impact Statement/Environmental Impact Report (Final EIS/EIR) for the Bair Island Restoration and Management Plan. The Record of Decision will be signed no sooner than 30 days after this notice.

The Fish and Wildlife Service (Service) and the California Department of Fish and Game (CDFG) plan to restore to tidal action 1,400 acres of former salt ponds on Bair Island, a unit of the Don Edwards San Francisco Bay National Wildlife Refuge (Refuge) and the Bair Island State Ecological Reserve in South San Francisco Bay. The restoration would involve breaching existing former commercial salt pond levees, adding flow restricters to Corkscrew Slough, and adding wildlife-oriented public use facilities. It could also include rerouting Smith Slough to its former slough bed and raising the bottom elevation of Inner Bair Island with dredge and/or fill material or adding water control structures to Inner Bair Island.

DATES: The Environmental Protection Agency (EPA) notice officially starts the 30-day waiting period for these documents. It is the goal of the Service to have our notice published on the same date as the EPA notice. However, if that does not occur, the date of the EPA notice will determine the closing date for the Final EIS/EIR. The 30-day waiting period will end on August 28, 2006. Written comments should be received on or before this date.

ADDRESSES: The Final EIS/EIR can be viewed on the South Bay Salt Pond Restoration Project Web site at http://www.southbayrestoration.org/Bair-EIR-EIS.html. Copies of the Final EIS/EIR are also available for review at the following government offices and libraries:

Government Offices—Don Edwards San Francisco Bay National Wildlife Refuge at the headquarters, #1 Marshlands Road, Fremont, California 94536, (510) 792-0222; Don Edwards San Francisco Bay NWR Environmental Education Center, 1751 Grand Boulevard, Alviso, California 95002, (408) 262-5513; California Department of Fish and Game, 7329 Silverado Trail, Napa, CA 94558, (707) 944-5500.

Libraries—Redwood City Library 1044 Middlefield Road, Redwood City, California 94063, (650) 780-1077; San Carlos Library 610 Elm Street, San Carlos, California 94070, (650) 591-0341.

FOR FURTHER INFORMATION CONTACT: Clyde Morris, Refuge Manager, Don Edwards San Francisco Bay NWR, P.O. Box 524, Newark, California 94560, (510) 792-0222.

SUPPLEMENTARY INFORMATION:

Background

Pursuant to the National Environmental Policy Act (NEPA), the Service prepared a Final EIS evaluating the impacts of restoring and managing up to 1,400 acres of former salt ponds to tidal wetland in San Francisco Bay.

The Bair Island Complex is divided into three distinct areas separated by slough channels: Inner, Middle, and Outer Bair. Inner Bair Island is connected to the mainland with access from Whipple Avenue and U.S. Highway 101. Inner Bair Island is separated from Middle Bair by Smith Slough, which in turn is separated from Outer Bair by Corkscrew Slough.

Historically, Bair Island was part of a large complex of tidal marshes and mud flats within the drainage of San Francisco Bay, Redwood Creek, and Steinberger Slough. Bair Island was diked in the late 1800's and early 1900's for agricultural purposes. It was converted to commercial salt ponds in 1946 and remained in production until 1965. The lands were then drained and sold to a series of real estate development companies. A local referendum in the City of Redwood City halted development plans for Bair Island. The CDFG and the Refuge both acquired portions of Bair Island over time. The Peninsula Open Space Trust purchased the majority of the remaining portions of Bair Island in 1999, and their interests were acquired by these agencies. Among several other landowners still remaining on Bair Island, the San Carlos Airport retains a portion of Inner Bair Island as a flight safety zone. In addition, two easements exist on Bair Island, for the Pacific Gas and Electric transmission towers and lines that run throughout the site and for the South Bayside System Authority (SBSA) force main that runs underneath most of the southern part of the levee on Inner Bair Island. Pedestrians and bicyclists currently use the top of the Inner Bair Island levee as a 3-mile loop trail with a ½-mile trail cutting across Inner Bair Island during the dry season. Portions of Middle and Outer Bair Island are used for waterfowl hunting, but there is little fishing occurring. Redwood Creek and to a lesser extent, Smith, Corkscrew and Steinberger Sloughs, are popular recreational boating areas.

The goal of the proposed Bair Island Restoration and Management Plan is to evaluate options to restore Bair Island to a tidal salt marsh to provide habitat for endangered species and other native wildlife, as well as to enhance the public's appreciation and awareness of the unique resources at Bair Island. Once restored, the site will assist with the preservation and recovery of both the California clapper rail and the salt marsh harvest mouse. These two species were listed by the Service as endangered on October 13, 1970.

The restoration of Bair Island would take place in phases. The first phase would be breaching of Outer Bair Island at one location on Steinberger Slough near its entrance to San Francisco Bay. The second phase would be restoration of Inner and Middle Bair Island. The third phase, which could take place during or after the first two phases, would be the construction of wildlife-oriented public use facilities.

On March 27, 2000, the Service published a Notice of Intent to prepare an EIS in the Federal Register (59 FR 16217). Scoping activities included a public scoping meeting on April 27, 2000. Comments received in response to this notice were incorporated into the Draft EIS/EIR.

On August 27, 2004, the Service published a Notice of Availability of the Draft EIS/EIR in the Federal Register (69 FR 52730). A public meeting to accept comments on the draft document was held on September 22, 2004. In the Draft EIS/EIR, we proposed to restore 1,400 acres of former commercial salt pond to tidal wetlands on Outer, Middle and Inner Bair Island. Wildlife-oriented public use improvements were also proposed. Project impacts were also described in the Draft EIS/EIR.

Development of the Final EIS

The Draft EIS/EIR was jointly developed with CDFG, which owns a portion of the lands to be restored on Bair Island. All comments received by either the Service or the CDFG are included and considered in the Final EIS/EIR. A total of 31 comment letters were received from organizations or individuals. The Final EIS/EIR incorporates all changes or additions to the draft into one complete document.

The Analysis provided in the Final EIS/EIR is intended to accomplish the following: Inform the public of the proposed action; address public comments received on the Draft EIS/EIR; disclose the direct, indirect, and cumulative environmental effects of the proposed actions; and indicate any irreversible commitment of resources that would result from implementation of the proposed action.

Alternatives Analyzed

The Final EIS/EIR considers five alternatives: A. No-Action Alternative, Alternative 1: Tidal Marsh Restoration with Moderate Public Access Alternative (Proposed Action), Alternative 2: Tidal Marsh Restoration with Restricted Public Access Alternative, Alternative 3: Tidal and Managed Marsh Restoration with Moderate Public Access Alternative, and Alternative 4: Tidal and Managed Marsh with Restricted Public Access Alternative.

Under the No-Action alternative, the Refuge would discontinue ongoing levee maintenance and would not repair any levee breaks. The Refuge would work with the San Carlos Airport and the SBSA to protect their infrastructure on Inner Bair Island. The existing levees on Middle and Outer Bair Island would eventually breach, causing unmanaged tidal inundation of the ponds. This would result in several impacts to existing infrastructure. There would be an increase in the sedimentation rate of the Redwood Creek Shipping Channel, resulting in the need for more frequent dredging by the Port of Redwood City. At least in the short term, there would be an increase in the velocity rate of the tidal waters at the junction of Smith Slough and Redwood Creek, making use of the Pete's Harbor Marina more difficult. Ponding of water on Inner Bair Island would increase the bird strike issue for the San Carlos Airport. Approximately 1,400 acres of tidal salt marsh would eventually be restored, but the No-Action Alternative would delay restoration of the ponds to salt marsh by 20-100 years and, at least in the short term, result in poorer quality endangered species habitat being developed compared to the four action alternatives.

In the short term (approximately 5 years), the No-Action alternative would provide limited public use consistent with protection of wildlife habitat and public safety. In the long term (approximately 5 to 10 years), as the Inner Bair Island levee became unsafe, public use of the 3-mile trail would be eliminated and the area would be closed to public access. No additional public use infrastructure such as wildlife viewing platforms and interpretive signage would be installed, and the Bair Island parking lot would be closed.

In Alternative 1, the proposed action, the Tidal Marsh Restoration with Moderate Public Access Alternative, full tidal salt marsh restoration would occur on Outer, Middle and Inner Bair Island. The levees on Middle and Outer Bair Island would be breached. Dredge and/or fill material would be used to raise the elevation of Inner Bair Island to prevent increasing the bird strike issue for San Carlos Airport. Following dredge or fill material placement, the Inner Bair Island levee would be breached, restoring the historic meander of Smith Slough to prevent unacceptable tidal velocities at Pete's Harbor Marina. A flow restricter would be installed in Corkscrew Slough to prevent increased sedimentation of the Redwood Creek Shipping Channel. Approximately 1,400 acres of tidal salt marsh would be restored more quickly than would occur under the No-Action Alternative for the endangered California clapper rail, salt marsh harvest mouse, and other native wildlife.

A wildlife viewing platform with portage for small boats would be constructed at the flow restricter in Corkscrew Slough. A 5-mile-per-hour speed limit and no-wake zone would be implemented in Smith and Corkscrew Slough to protect harbor seals and other sensitive wildlife. In addition to waterfowl hunting, Refuge guided trips would continue to be the only public access allowed on Outer and Middle Bair Island. On Inner Bair Island, 1.8 miles of trails on the levee, which would end at two wildlife platforms adjacent to Smith Slough, would replace the 3-mile loop trail. A predator-resistant pedestrian bridge would be built from the existing parking lot to Inner Bair Island. The parking lot would be enlarged to accommodate school buses, a restroom and an information kiosk. The Whipple Avenue entrance would be closed to public access but maintained for emergency vehicle access. Pets (dogs only) would be allowed on the Inner Bair Island trails on a 6-foot leash. Future dog access to Bair Island will be determined during a test period of compliance with Refuge regulations designed to protect wildlife.

As a result of comments made on the Draft EIS/EIR, Alternative 1 in the Final EIS/EIR differs from Alternative 1 in the Draft EIS/EIR in the following ways: (1) The public access trail on Inner Bair Island would be shortened from 2.7 miles to 1.8 miles; (2) a predator-resistent pedestrian bridge would be added to directly connect the existing Bair Island Parking Lot to Inner Bair Island; (3) a 3-foot high berm or one strand fence would be added, to be placed between the public access area and the restored habitat; and (4) the existing parking lot would be enlarged to accommodate school buses, a restroom, and an information kiosk.

Alternative 2, the Tidal Marsh Restoration with Restricted Public Access Alternative, would be the same as the Preferred Alternative (Alternative 1), except for the following: (1) No pets would be allowed on Inner Bair Island; (2) there would be a seasonal closure to boating in Corkscrew Slough to protect harbor seals; (3) no pedestrian bridge would be built from the Refuge parking lot and the parking lot would not be enlarged to accommodate school buses and a restroom; (4) an existing unimproved trail on the mainland from the Refuge parking lot to the Whipple Avenue trailhead would be improved, and Whipple Avenue would continue to be used as the primary public access route to Inner Bair Island; and (5) the 1.8-mile Inner Bair Island Trail would not extend east of Whipple Avenue, but would extend further along Smith Slough on the west side of Whipple Avenue, ending in one wildlife viewing platform along Smith Slough. Approximately 1,400 acres of tidal salt marsh would be restored more quickly than would occur under the No-Action Alternative for the endangered California clapper rail, endangered salt marsh harvest mouse, and other native wildlife.

Alternative 3, the Tidal and Managed Marsh Restoration with Moderate Public Access Alternative, would be the same as Alternative 2 except for the following: (1) Inner Bair Island would not be restored to tidal salt marsh; (2) Pets (dogs only) would be allowed on the Inner Bair Island trails on a 6-foot leash for a test period to determine compliance with Refuge regulations designed to protect wildlife; and (3) there would not be a seasonal closure of Corkscrew Slough to protect harbor seals. Using water control structures, managed salt marsh would be created on Inner Bair Island, a flow restricter would be built in Smith Slough to prevent an unacceptable increase in tidal velocity at Pete's Harbor Marina, and the slough would not be restored to its historic meander. Approximately 1,100 acres of tidal salt marsh would be restored on Outer and Middle Bair Island more quickly than would occur under the No-Action Alternative for the endangered California clapper rail, endangered salt marsh harvest mouse, and other native wildlife. Three hundred acres of managed salt marsh would be created on Inner Bair Island for the endangered salt marsh harvest mouse but no habitat would be created for the endangered California clapper rail.

Alternative 4, the Tidal and Managed Marsh Restoration with Restricted Public Access Alternative, would be a mixture of Alternative's 2 and 3. The restoration of 1,100 acres of tidal salt marsh and 300 acres of managed salt marsh on Inner Bair Island would be the same as in Alternative 3. The public access would be the same as in Alternative 2.

This notice is provided pursuant to regulations for implementing the National Environmental Policy Act of 1969 (40 CFR 1506.6).

Dated: July 19, 2006.
Alexandra Pitts,
Acting Manager, California/Nevada Operations Office.

[FR Doc. E6-12016 Filed 7-27-06; 8:45 am]

BILLING CODE 4310-55-P